DEPARTMENT OF COMMERCE

International Trade Administration

[C-122-839]

Notice of Rescission of Countervailing Duty Reviews and Revocation of Countervailing Duty Order: Certain Softwood Lumber Products From Canada

AGENCY: Import Administration, International Trade Administration, Department of Commerce.

EFFECTIVE DATE: October 12, 2006.

FOR FURTHER INFORMATION CONTACT: Eric B. Greynolds, AD/CVD Operations, Office 3, Import Administration, International Trade Administration, U.S. Department of Commerce, 14th Street and Constitution Avenue, NW, Washington, DC 20230; telephone: (202) 482-6071.

SUMMARY: On September 12, 2006, U.S. Trade Representative Susan C. Schwab and Canada's Minister for International Trade, David Emerson, signed the Softwood Lumber Agreement (SLA 2006). On October 12, 2006, the SLA 2006 entered into effect. Pursuant to the settlement of litigation which is a precondition for the entry into force of the SLA 2006, the Department of Commerce (the Department) is revoking the countervailing duty order on certain softwood lumber products from Canada and rescinding all ongoing proceedings related to that order.

SUPPLEMENTARY INFORMATION:

Background

On May 22, 2002, the Department published the countervailing duty order on certain softwood lumber from Canada. See Notice of Amended Final Affirmative Countervailing Duty Determination and Notice of Countervailing Duty Order: Certain Softwood Lumber Products From Canada, as corrected, 67 FR 36070 (May 22, 2002). The Department subsequently completed the first and second administrative reviews. See Notice of Amended Final Results of Countervailing Duty Administrative Review: Certain Softwood Lumber Products from Canada, 70 FR 9046 (February 24, 2005); see also Notice of Final Results of Countervailing Duty Administrative Review: Certain Softwood Lumber Products from Canada, 70 FR 73448 (December 12, 2005).¹ On June 30, 2005, the Department published a notice of initiation of administrative review of the countervailing duty order on certain softwood lumber products from Canada, covering the period of review (POR) April 1, 2004, to March 31, 2005 (POR 3). See Notice of Initiation of Antidumping and Countervailing Duty Administrative Reviews, 70 FR 37749 (June 30, 2005) (Initiation Notice). The preliminary results for POR 3 were issued on June 12, 2006. See Notice of Preliminary Results and Extension of Final Result of Countervailing Duty Administrative Review: Certain Softwood Lumber Products From Canada, 71 FR 33933 (June 12, 2006). On July 3, 2006 the Department published a notice of initiation of the fourth administrative review of the order covering the period April 1, 2005, to March 31, 2006 (POR 4). See Initiation of Antidumping and Countervailing Duty Administrative Reviews, 71 FR 37892 (July 3, 2006).

¹ In addition, the Department has initiated a number of “expedited reviews” to establish company-specific deposit rates and to consider whether company-specific revocation is appropriate. The Department has completed many of those reviews.

On September 12, 2006, U.S. Trade Representative Susan C. Schwab and Canada's Minister for International Trade, David Emerson, signed the SLA 2006. One of the conditions for entry into force of the SLA 2006 was the settlement of litigation. On October 12, 2006, the government of the United States and the government of Canada exchanged letters indicating that the conditions for entry into force of the SLA 2006 had been fulfilled.

Rescission Of The Reviews And Revocation Of The Order

Pursuant to the settlement of litigation, the Department hereby revokes the countervailing duty order on softwood lumber from Canada, effective May 22, 2002, without the possibility of reinstatement. As the result of the revocation of the order, which is effective for the periods being reviewed, the Department hereby rescinds all ongoing proceedings related to the countervailing duty order, including the administrative reviews for POR 3 and POR 4, and all outstanding expedited reviews.

In accordance with the terms of the SLA 2006, we will instruct U.S. Customs and Border Protection (CBP) to cease collecting cash deposits, as of October 12, 2006, on imports of softwood lumber products from Canada. Moreover, we will instruct CBP to liquidate all entries made on or after May 22, 2002, without regard to countervailing duties. In addition, we will instruct CBP to refund all deposits collected on such entries with accrued interest.

This notice is in accordance with 777(i) of the Tariff Act of 1930, as amended and 19 CFR 341.213(d)(4).

Dated: October 12, 2006.
David M. Spooner,
Assistant Secretary for Import Administration.

[FR Doc. E6-17382 Filed 10-18-06; 8:45 am]

BILLING CODE 3510-DS-S